FEDERAL COMMUNICATIONS COMMISSION

Public Information Collection Approved by Office of Management and Budget

February 22, 2002.

The Federal Communications Commission (FCC) has received Office of Management and Budget (OMB) approval for the following public information collections pursuant to the Paperwork Reduction Act of 1995, Public Law 96-511. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Judith B. Herman, Federal Communications Commission, (202) 418-0214.

Federal Communications Commission

OMB Control No.: 3060-1004.

Expiration Date: 07/31/02.

Title: Orders Re: E911 Waivers.

Form No.: N/A.

Respondents: Business, not-for-profit institutions, and State and local governments.

Responses: 22.

Annual Burden: 110 hours.

Total Annual Cost: 0.

Description: The quarterly and supplemental reports will be used by the Commission to monitor carrier progress in transition to E911, and thus ensure that this important effort will continue in an orderly and timely fashion.

Federal Communications Commission.
William F. Caton,
Acting Secretary.

[FR Doc. 02-4884 Filed 2-28-02; 8:45 am]

BILLING CODE 6712-01-P